DEPARTMENT OF AGRICULTURE

Grain Inspection, Packers and Stockyards Administration

Request for Extension and Revision of a Currently Approved Information Collection

AGENCY: Grain Inspection, Packers and Stockyards Administration, USDA.

ACTION: Notice and request for comments.

SUMMARY: In accordance with the Paperwork Reduction Act of 1995 (44 U.S.C. chapter 35), this notice announces the Grain Inspection, Packers and Stockyards Administration (GIPSA) intention to request an extension for and revision to a currently approved information collection related to the delivery of services conducted under the official inspection, grading and weighing programs authorized under the United States Grain Standards Act and the Agricultural Marketing Act of 1946. This voluntary survey would give GIPSA customers of the official inspection, grading and weighing programs, who are primarily in the grain, oilseed, rice, lentil, dry pea, edible bean and related agricultural commodity markets, an opportunity to provide feedback on the quality of services they receive and would provide information on new services that customers would like to receive. This feedback would help GIPSA's Federal Grain Inspection Service (FGIS) improve services and service delivery provided by the official inspection, grading, and weighing system.

DATES: Written comments must be submitted on or before May 5, 2009.

ADDRESSES: We invite you to submit comments on this notice by any of the following methods:

• E-Mail: comments.gipsa@usda.gov.

• Mail: Tess Butler, GIPSA, USDA, 1400 Independence Avenue, SW., Room 1643-S, Washington, DC 20250-3604.

• Fax: (202) 690-2173.

• Hand Delivery or Courier: Tess Butler, GIPSA, USDA, 1400 Independence Avenue, SW., Room 1643-S, Washington, DC 20250-3604.

• Internet: Go to http://www.regulations.gov and follow the online instructions for submitting comments.

All comments should make reference to the date and page number of this issue of the Federal Register. The Information collection package and other documents relating to this action will be available for public inspection in the above office during regular business hours. All comments will be available for public inspection in the above office during regular business hours (7 CFR 1.27(b)).

FOR FURTHER INFORMATION CONTACT: Idelisse Rodriguez, Program Analyst, Market and Program Analysis Staff, e-mail address: Idelisse.Rodriguez@usda.gov, telephone (202) 720-5688.

SUPPLEMENTARY INFORMATION: The United States Grain Standards Act, as amended (USGSA) (7 U.S.C. 71-87k), and the Agricultural Marketing Act of 1946, as amended (AMA) (7 U.S.C. 1621-1627), authorize the Secretary of Agriculture to establish official inspection, grading and weighing programs for grains and other agricultural commodities. Under the USGSA and AMA, GIPSA's FGIS offers inspection, weighing, grading, quality assurance and certification services for a user-fee to facilitate the efficient marketing of grain, oilseeds, rice, lentils, dry peas, edible beans, and related agricultural commodities in the global marketplace. Under FGIS oversight, the official inspection, grading, and weighing programs are a public-private partnership including Federal, State and private agencies, and provides official inspection, grading and weighing services to the domestic and export trade.

There are approximately 9,000 current users of the official inspection, grading and weighing programs. These customers are located nationwide and represent a diverse mixture of small, medium and large producers, merchandisers, processors, exporters and other financially interested parties. These customers request official services from an FGIS Field Office; delegated, designated, or cooperating State office; or designated private agency office.

The goal of FGIS and the official inspection, grading, and weighing system is to provide timely, high quality, accurate, consistent and professional service that facilitates the orderly marketing of grain and related commodities. To accomplish this goal and in accordance with Executive Order 12862, FGIS is seeking feedback from a representative sample of customers to evaluate the services provided by the official inspection, grading and weighing programs.

Title: Survey of Customers of the Official Inspection, Grading, and Weighing Programs (Grain and Related Commodities).

OMB Number: 0580-0018.

Expiration Date of Approval: July 31, 2009.

Type of Request: Extension and revision of a currently approved information collection.

Abstract: The collection of information using a voluntary customer service survey would provide a representative sample of paying customers of FGIS and the official inspection, grading and weighing programs an opportunity to evaluate, on a scale of one to five, the timeliness, cost-effectiveness, accuracy, consistency and usefulness of services and results, and the professionalism of employees. Customers will also have an opportunity to provide additional comments or indicate what new or existing services they would use if such services were offered or available.

FGIS needs to have a more formal means of determining customers' expectations of the quality of service that is delivered. To collect this information, FGIS would distribute, over a 3-year period, an annual voluntary customer service survey. FGIS plans to survey a statistically random sample of about 1,100 customers per year that is representative of the customers' population as a whole. The survey instrument consists of nine questions and any subsequent survey instruments would be tailored to earlier responses. In the near future, FGIS would like to make available to its customers an electronic version of the survey. The information collected from the survey will allow FGIS to gauge customers' satisfaction with existing services, compare results from year to year, and determine what new services that its customers desire. The survey assesses the timeliness, cost effectiveness, accuracy, consistency, and usefulness of FGIS services and results, as well as the professionalism of FGIS employees. Some examples of survey questions include the following: “I receive results in a timely manner,” “Official results are accurate,” and “Inspection personnel are knowledgeable.” These survey questions will be assessed using a one to five rating scale with responses ranging from “strongly disagree” to “strongly agree” or “no opinion.” Customers are also asked for which product they primarily request service, and what percentage of their product is officially inspected. Space is also available on the survey for the customer to provide additional comments or request new or existing services.

By obtaining information from customers through a voluntary customer service survey, FGIS can continue to improve services and service delivery provided by the official inspection, grading and weighing programs that meets or exceeds customer expectations.

Estimate of Burden: Public reporting burden for this collection of information is estimated to average 10 minutes (i.e., 0.167 hours) per response.

Respondents: The primary respondents will be a statistically random sample of direct paying customers of FGIS and the official inspection, grading, and weighing programs.

FY 2009: Estimated Number of Respondents: 605 (i.e., 1,100 total customers times 55% response rate = 605).

Frequency of Responses: 1.

Estimated Annual Burden: 101 hours. (605 responses times 0.167 hours/response = 101 hours).

FY 2010: Estimated Number of Respondents: 638 (i.e., 1,100 total customers times 58% response rate = 638).

Frequency of Responses: 1.

Estimated Annual Burden: 106 hours. (638 responses times 0.167 hours/response = 106 hours).

FY 2011: Estimated Number of Respondents: 660. (i.e., 1,100 total customers times 60% response rate = 660).

Frequency of Responses: 1.

Estimated Annual Burden: 110 hours. (660 responses times 0.167 hours/response = 110 hours).

Copies of this information collection can be obtained from Tess Butler, Grain Inspection, Packers and Stockyards Administration at (202) 720-7486.

Comments: Comments are invited on: (a) Whether the collection of the information is necessary for the proper performance of the functions of FGIS, including whether the information will have a practical utility; (b) the accuracy of FGIS' estimate of the burden, including the validity of the methodology and assumptions used; (c) ways to enhance the quality, utility, and clarity of the information to be collected; and (d) ways to minimize the burden of the collection of information on those who are to respond, including through the use of appropriate automated, electronic, mechanical, or other technological collection techniques, or other forms of information technology.

Comments should be addressed to Tess Butler, as referenced above. All responses to this notice will be summarized and included in the request for OMB approval. All comments will also become a matter of public record.

Alan Christian,
Acting Administrator, Grain Inspection, Packers and Stockyards Administration.

[FR Doc. E9-4786 Filed 3-5-09; 8:45 am]

BILLING CODE 3410-KD-P